FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel-Operating Common Carrier Ocean Transportation Intermediary Applicants

Diplomat Global Logistics, Inc., 6315 Fly Road, E. Syracuse, NY 13057,

Officers: Richard J. Roche, President, (Qualifying Individual); John Rodenhouse, Secretary

Dynamic World Trade Corp. d/b/a LHS Global Logistics, 747 Glasgow Avenue, Inglewood, CA 90301.

Officers: Carl Steiner, CEO (Qualifying Individual); Robert Harrah, Vice President Sales.

Daystar Line, Inc., 535 Secaucus Road, Secaucus, NJ 07094.

Officers: Taek S. Hwang (aka Timmy Hwang), President, (Qualifying Individual); Yoon M. Hwang, Treasurer.

G&S Shipping, Inc., 2252 Beverly Boulevard, Suite 204, Los Angeles, CA 90057.

Officer: Olegario M. Gaerlan, President, (Qualifying Individual).

Amfak Global Services, Inc., 205 Meadow Road, Edison, NJ 08817.

Officers: Stephen F. Trimboli, Vice President, (Qualifying Individual); Michael F. Molfetta, President.

Non-Vessel Operating Common Carrier and Ocean Freight Forwarder Transportation Intermediary Applicants

Conex International, 20435 South Western Avenue, Torrance, CA 90501.

Yung Hoon Kim, Sole Proprietor.

E.N.W. Freight Forwarding Corporation, 8601 NW 72 Street, Miami, FL 33166

Officers: Eduardo Gutierrez, President, (Qualifying Individual); William Alvarez, Vice President.

Northern Business Logistics Corporation, 398 West Bagley Road, Suite 216, Berea, OH 44017.

Officers: Sherri Ann Price, Export Manager, (Qualifying Individual); Don Unansky, President.

Maharlika Cargo International, Inc., 16093 Mills Avenue, San Lorenzo, CA 94580.

Officers: Conrado Lim, Secretary, (Qualifying Individual); Carmen L. Daniels, CEO.

Latek USA, Inc., 662 Dell Road, Carlstadt, NJ 07072.

Officers: Metin Nerkis, Vice President, (Qualifying Individual); Gamza Ayberk, President.

HPK Logistics (USA) Inc., 5959 W. Century Blvd., Suite 705, Los Angeles, CA 90045.

Officers: Richard Cai, President, (Qualifying Individual); Jian Sun, Treasurer.

New Horizons International Group, Incorporated, 6509 New Hampshire Avenue, Takoma Park, MD 20912.

Officer: Chuck Lawrence Omerennah, President, (Qualifying Individual).

Caribtrans Cargo, Inc., 8012 NW 29th Street, Miami, FL 33122.

Officer: Armando Peralta, President, (Qualifying Individual).

S & B International Freight Forwarders, Inc., 4955 SW, 75th Avenue, P.O. Box 55 7066, Miami, FL 33155.

Officers: Crystal Tina Saenz, Manager, (Qualifying Individual); Tammy Gonzalez, President.

Cargo Transport Fla., Inc., 7122 NW 74th Avenue, Miami, FL 33166.

Officers: Milton Amengual, Vice President, (Qualifying Individual); Roger Jarman, President.

Delex Inc., 1326 McDonald Avenue, Brooklyn, NY 11230.

Officers: Robert Taylor, Secretary/Corporate Dir., (Qualifying Individual); Oleg Ardashev, President.

Total Cargo Logistics Inc. d/b/a Trans Container, Line 405 Blair Road, Avenel, NJ 07001,

Officer: Brian Ventura, President, (Qualifying Individual).

Antilles Wholesale Co Inc., 1759 Bay Road, Miami Beach, FL 33139.

Officer: Joseph Burke, President, (Qualifying Individual).

Ocean Freight Forwarder—Ocean Transportation Intermediary, Applicants

Pacific Terminals Limited 3480 West Marginal Way SW,

Seattle, WA 98106.

Officers: Ilya Pankov, Import Export Manager, (Qualifying Individual); Kyle Washington, President.

Freight Brokers Global Forwarding, Inc., 205 Meadow Road, Edison, NJ 08817.

Officer: Michael Francis Molfetta, Director, (Qualifying Individual).

Tower Global Logistics, Inc., 7220 NW 36 Street, Suite 646,

Miami, FL 33166.

Officers: Eduardo del Pozo, Director of Operations, (Qualifying Individual);

Angela Mesa, President.

Falcon Worldwide Corp., 2800 SW 4th Avenue, Bay 20, Fort Lauderdale, FL 33315.

Officers: James R. Brown, (Qualifying Individual); Robert Mion, President.

ACI Cargo, Inc., 2716 NW 72nd Avenue, Miami, FL 33122.

Officers: Raul R. Gonzalez, President, (Qualifying Individual); Gilda Gonzalez, Vice President.

Dated: May 4, 2001.
Bryant L. VanBrakle,
Secretary,

[FR Doc. 01-11684 Filed 5-8-01; 8:45 am],

BILLING CODE 6730-01-P